DEPARTMENT OF HEALTH AND HUMAN SERVICES

Centers for Medicare & Medicaid Services

[Document Identifier: CMS-R-296]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Home Health Advance Beneficiary Notice (HHABN) and Supporting Regulations in 42 CFR 411.404 and 484.10(a) and (e).; Use: Home health agencies (HHAs) are required to provide written notice to Medicare beneficiaries under various circumstances involving the initiation, reduction, or termination of services. The notice is designed to ensure that beneficiaries receive complete and useful information to enable them to make informed consumer decisions. Consistent with the decision of the U.S. Court of Appeals (2nd Circuit) in the Lutwin v. Thompson, HHAs must now also issue HHABNs in a broader set of circumstances in conjunction with their responsibilities under the Home Health Conditions of Participation (HH COPs). The HHABN instructions explain when the newly revised HHABN should be issued, and include additional changes to simplify notice policy for HHAs. The notice must be issued timely and provide clear and accurate information about the specified services and, if applicable, the cost of potentially non-covered services when Medicare denial of payment is expected by the HHA. Form Number: CMS-R-296 (OMB#: 0938-0781); Frequency: Recordkeeping, Third party disclosure and Reporting: On occasion, Other: As needed; Affected Public: Individuals or households, Business or other for-profit and Not-for-profit institutions; Number of Respondents: 7,612; Total Annual Responses: 10,351,703; Total Annual Hours: 780,918.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503. Fax Number: (202) 395-6974.

Dated: June 20, 2006.
Michelle Shortt,
Director, Regulations Development Group, Office of Strategic Operations and Regulatory Affairs.

[FR Doc. 06-5621 Filed 6-20-06; 1:10 pm]

BILLING CODE 4120-01-P